DEPARTMENT OF HEALTH AND HUMAN SERVICES

Centers for Medicare & Medicaid Services

[CMS-1296-N2]

Medicare Program; Request for Nominations to the Advisory Panel on Ambulatory Payment Classification Groups; Extension of Nominations Deadline

AGENCY: Centers for Medicare & Medicaid Services (CMS), HHS.

ACTION: Notice.

SUMMARY: This notice extends the deadline for nominations of members to the Advisory Panel on Ambulatory Payment Classification (APC) Groups (the Panel). The original request for nominations was published in the Federal Register on February 25, 2005. (70 FR 9336) Six vacancies will exist on the Panel as of March 31, 2005.

The purpose of the Panel is to review the APC groups and their associated weights and to advise the Secretary of the Department of Health and Human Services (the Secretary) and the Administrator of the Centers for Medicare & Medicaid Services (CMS) (the Administrator) concerning the clinical integrity of the APC groups and their associated weights. The advice provided by the Panel will be considered as CMS prepares its annual updates of the hospital Outpatient Prospective Payment System (OPPS) through rulemaking.

The panel was recently rechartered for a 2-year period through November 21, 2006.

Nominations: Nominations will be considered if received no later than May 9, 2005. Mail or deliver nominations to the following address: CMS; Attn: Shirl Ackerman-Ross, Designated Federal Officer (DFO), Advisory Panel on APC Groups; Center for Medicare Management (CMM), Hospital & Ambulatory Policy Group (HAPG), Division of Outpatient Care (DOC); 7500 Security Boulevard, Mail Stop C4-05-17; Baltimore, MD 21244-1850.

Web site: For additional information on the APC Panel and updates to the Panel's activities, search our Web site at: http://www.cms.hhs.gov/faca/apc/default.asp.

Advisory Committees' Information Lines: You may also refer to the CMS Advisory Committee Information Hotlines at 1-877-449-5659 (toll-free) or 410-786-9379 (local) for additional information.

FOR FURTHER INFORMATION CONTACT: Persons wishing to nominate individuals to serve on the Panel or to obtain further information can also contact Shirl Ackerman-Ross, the DFO, at APCPanel@cms.hhs.gov or call 410-786-4474. News media representatives should contact the CMS Press Office at 202-690-6145.

SUPPLEMENTARY INFORMATION:

I. Background

The Secretary is required by section 1833(t)(9)(A) of the Social Security Act (the Act), as amended and redesignated by sections 201(h) and 202(a)(2) of the Medicare, Medicaid, and SCHIP Balanced Budget Refinement Act of 1999 (BBRA) (Pub. L. 106-113), respectively, to establish and consult with an expert, outside advisory panel on Ambulatory Payment Classification (APC) groups.

The Panel meets up to three times annually to review the APC groups and to provide technical advice to the Secretary and the Administrator concerning the clinical integrity of the groups and their associated weights. CMS considers the technical advice provided by the Panel as we prepare the proposed rule that proposes changes to the OPPS for the next calendar year.

The Panel may consist of up to 15 representatives who are full-time employees (not consultants) of Medicare providers, which are subject to the OPPS, and a Chair.

The Administrator selects the Panel membership based upon either self-nominations or nominations submitted by providers or interested organizations.

The current Panel members are: (The asterisk [*] indicates a Panel member whose term expires on March 31, 2005.)

• E.L. Hambrick, M.D., J.D., a CMS Medical Officer

• Marilyn K. Bedell, M.S., R.N., O.C.N.

• Albert Brooks Einstein, Jr., M.D.

• Lee H. Hilborne, M.D.*

• Stephen T. House, M.D.*

• Kathleen P. Kinslow, C.R.N.A., Ed.D.*

• Mike Metro, R.N.*

• Sandra J. Metzler, M.B.A., R.H.I.A.

• Gerald V. Naccarelli, M.D.*

• Frank G. Opelka, M.D.

• Louis Potters, M.D.

• Lou Ann Schraffenberger, M.B.A., R.H.I.A.

• Judie S. Snipes, R.N., M.B.A., C.H.E.

• Lynn R. Tomascik, R.N., M.S.N., C.N.A.A.

• Timothy Gene Tyler, Pharm.D.

• William A. Van Decker, M.D., J.D.*

Panel members serve without compensation, according to an advance written agreement; however, travel, meals, lodging, and related expenses are reimbursed in accordance with standard Government travel regulations. CMS has a special interest for ensuring that women, minorities, and the physically challenged are adequately represented on the Panel. CMS further encourages nominations of qualified candidates from those groups.

The Secretary, or his designee, appoints new members to the Panel from among those candidates determined to have the required expertise. New appointments are made in a manner that ensures a balanced membership.

II. Criteria for Nominees

All nominees must have technical expertise that enables them to participate fully in the work of the Panel. Such expertise encompasses hospital payment systems, hospital medical-care delivery systems, outpatient payment requirements, Ambulatory Payment Classification (APC) Groups, Physicians' Current Procedural Terminology Codes (CPTs), the use and payment of drugs and medical devices in the outpatient setting, and other forms of relevant expertise.

It is not necessary for a nominee to possess expertise in all of the areas listed, but each must have a minimum of 5 years experience and currently be employed full-time in his or her area of expertise. Members of the Panel serve overlapping 2, 3, and 4-year terms, contingent upon the rechartering of the Panel.

Any interested person may nominate one or more qualified individuals. Self-nominations will also be accepted. Each nomination must include a letter of nomination, the curriculum vita of the nominee, and a statement from the nominee that the nominee is willing to serve on the Panel under the conditions described in this notice and further specified in the Charter.

III. Copies of the Charter

To obtain a copy of the Panel's Charter, submit a written request to the DFO at the address provided or by e-mail at APCPanel@cms.hhs.gov, or call her at 410-786-4474. Copies of the Charter are also available on the Internet at http://www.cms.hhs.gov/faca.

Authority: Section 1833(t)(9)(A) of the Act (42 U.S.C. 13951(t)(9)(A). The Panel is governed by the provisions of Pub. L. 92-463, as amended (5 U.S.C. Appendix 2).

(Catalog of Federal Domestic Assistance Program No. 93.774, Medicare-Supplementary Medical Insurance Program)
Dated: March 31, 2005.
Mark B. McClellan,
Administrator, Centers for Medicare & Medicaid Services.

[FR Doc. 05-6862 Filed 4-7-05; 8:45 am]

BILLING CODE 4120-03-P